DEPARTMENT OF COMMERCE

National Oceanic and Atmospheric Administration

RIN 0648-XF801

Endangered Species; File Nos. 20590 and 20610

AGENCY: National Marine Fisheries Service (NMFS), National Oceanic and Atmospheric Administration (NOAA), Commerce.

ACTION: Notice; receipt of applications.

SUMMARY: Notice is hereby given that Nicole Phillips, Ph.D., The University of Southern Mississippi, Department of Biological Sciences, 118 College Drive #5018, Hattiesburg, MS 39406 (File No. 20590) and David Portnoy, Ph.D., Texas A&M University, Corpus Christi, TX 78412 (File No. 20610), have applied in due form for permits to receive and import sawfish and scalloped hammerhead shark samples for purposes of scientific research.

DATES: Written, telefaxed, or email comments must be received on or before December 18, 2017.

ADDRESSES: The application and related documents are available for review by selecting “Records Open for Public Comment” from the “Features” box on the Applications and Permits for Protected Species (APPS) home page, https://apps.nmfs.noaa.gov, and then selecting File Nos. 20590 or 20610 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Jennifer Skidmore (File Nos. 20590 or 20610), Malcolm Mohead (File No. 20590), or Erin Markin (File No. 20610), (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

File No. 20590: The applicant (Dr. Phillips) is requesting authorization to import tissue samples from 5 species of listed sawfish including the smalltooth sawfish (Pristis pectinata), largetooth sawfish (P. pristis), green sawfish (P. zijsron), dwarf sawfish (P. clavata), and narrow sawfish (Anoxypristis cuspidate) to assess the impact of population decline through genetic diversity. This study will use tissue samples obtained opportunistically from saws with known location data held in museums, educational and private collections to: (1) Assess whether there has been a recent loss of genetic diversity in sawfishes globally, and (2) evaluate the long-term survival outlook for sawfishes. The applicant proposes to import tissue samples from up to a total of 500 sawfish specimens, from all species, annually from at least Mexico, Belize, United Arab Emirates, United Kingdom, and Australia to The University of Southern Mississippi for analysis. The requested duration of the permit is five years.

File No. 20610: The applicant (Dr. Portnoy) is requesting authorization to import scalloped hammerhead (Sphyrna lewini) tissue in the form of fin clips or small muscle biopsies from Belize (Central & SW Atlantic DPS, up to 50 samples), Trinidad (Central & SW Atlantic DPS, up to 50 samples), Mexico (Eastern Pacific DPS, up to 100 samples; NW Atlantic & GOM DPS, up to 50 samples), Cuba (Central & SW Atlantic DPS, up to 50 samples), and Sierra Leone (Eastern Atlantic DPS, up to 50 samples) for genetic analysis at Texas A&M University in Corpus Christi. These samples would be used as part of a larger project to characterize the stock structure of S. lewini populations within the western Atlantic, as well as between the western Pacific and Atlantic, using next generation sequencing techniques. Tissue samples would be from animals that have been previously collected, or will be taken opportunistically as scalloped hammerheads are encountered in fish markets. The requested duration of the permit is five years.

Dated: November 14, 2017.
Julia Harrison,
Chief, Permits and Conservation Division, Office of Protected Resources, National Marine Fisheries Service.

[FR Doc. 2017-24946 Filed 11-16-17; 8:45 am]

BILLING CODE 3510-22-P